DEPARTMENT OF COMMERCE

Census Bureau

2007 Economic Census Covering the Manufacturing Sector

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 27, 2006.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Arminta N. Quash, U.S. Census Bureau, Manufacturing and Construction Division, Room 2108, Building #4, Washington, DC 20233, (301) 763-8189, (or via the Internet at arminta.n.quash@census.gov).

SUPPLEMENTARY INFORMATION:

I. Abstract

The Census Bureau is the preeminent collector and provider of timely, relevant and quality data about the people and economy of the United States. Economic data are the Census Bureau's primary program commitment during non-decennial census years. The economic census, conducted under authority of Title 13 United States Code, is the primary source of facts about the structure and functioning of the Nation's economy and features unique industry and geographic detail. Economic census statistics serve as part of the framework for the national accounts and provide essential information for government, business and the general public. The 2007 Economic Census covering the Manufacturing Sector will measure the economic activity for 345,000 manufacturing establishments.

The information collected from companies in the manufacturing sector of the economic census will produce basic statistics by industry for number of establishments, payroll, employment, value of shipments, value added, capital expenditures, depreciation, materials consumed, selected purchased services, electric energy used and inventories held.

Primary strategies for reducing burden in Census Bureau economic data collections are to increase electronic reporting through broader use of computerized self-administered census questionnaires, electronic data interchange, and other electronic data collection methods.

II. Method of Collection

Establishments included in this collection will be selected from a frame given by the Census Bureau's Business Register. To be eligible for selection, an establishment will be required to satisfy the following conditions; (i) It must be classified in the manufacturing sector; (ii) it must be an active operating establishment of a multi-establishment company, or it must be an operating single-establishment company with payroll; and (iii) it must be located in one of the 50 states or the District of Columbia. Most establishments will be included in the mail portion of the collection. Forms tailored for the particular kind of business will be mailed to the establishment to be filled out and returned. Establishments not meeting certain cutoffs for payroll will be included in the non-mail portion of the collection. We will use administrative data in lieu of collecting data directly from these establishments.

Mail selection procedures will distinguish several groups of establishments.

Establishment selection to a particular group is based on a number of factors. The more important considerations are the size of the company and whether it is included in the intercensal Annual Survey of Manufactures (ASM) sample panel. The ASM panel is representative of both large and small establishments from the mail component of the manufacturing census. The ASM sample panel includes approximately 53,000 establishments. The various groups of establishments that will constitute the 2007 Economic Census are outlined below.

A. Establishments of Multi-Establishment Companies

Selection procedures will assign eligible establishments of multi-establishment companies to the mail components of the universe.

We estimate that the census mail canvass for 2007 will include the following:

1. ASM sample establishments: 36,000.

2. Non-ASM: 51,000.

B. Single-Establishment Companies Engaged in Manufacturing Activity With Payroll

As an initial step in the selection process, we will analyze the potential universe for manufacturing. This analysis will produce a set of industry-specific payroll cutoffs that we will use to distinguish large versus small-establishment companies within each industry. This payroll size distinction will affect selection as follows:

1. Large Single-Establishment Companies.

Single-establishment companies having annualized payroll (from Federal administrative records) that equals or exceeds the cutoff for their industry will be assigned to the mail component of the universe.

We estimate that the census mail canvass for 2007 will include the following:

a. ASM sample establishments: 17,000.

b. Non-ASM: 66,000.

2. Small Single-Establishment Companies.

In selected industries, small single-establishment companies that satisfy a particular criteria (administrative record payroll cutoff) will receive a manufacturing short form, which will collect a reduced amount of basic statistics and other essential information that is not available from administrative records.

We estimate that the census mail canvass for 2007 will include approximately 35,000 companies in this category. This category does not contain ASM establishments.

3. All remaining single-establishment companies with payroll will be represented in the census by data estimated from Federal administrative records. Generally, we do not include these small employers in the census mail canvass.

We estimate that this category for 2007 will include approximately 140,000 manufacturing companies.

III. Data

OMB Number: Not Available.

Form Number: The forms used to collect information from businesses in this sector of the economic census are tailored to specific business practices and are too numerous to list separately in this notice. You can obtain information on the proposed content at this Web site: http://www.census.gov/mcd/clearance/census.

Type of Review: Regular Review.

Affected Public: Business or Other for Profit, Not-for-Profit institutions, and Small Business or Organizations.

Estimated Number of Respondents:

ASM | 53,000
Non-ASM (Long Form) | 117,000
Non-ASM (Short Form) | 35,000
Total | 205,000

Estimated Time Per Response:

ASM | 5.9 hrs.
Non-ASM (Long Form) | 3.7 hrs.
Non-ASM (Short Form) | 2.5 hrs.

Estimated Total Annual Burden Hours: 833,100.

Estimated Total Annual Cost: $20,552,577.

Respondent's Obligation: Mandatory.

Legal Authority: Title 13, United States Code, Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 21, 2006.
Madeleine Clayton,
Management Analyst, Office of the Chief Information Officer.

[FR Doc. 06-8251 Filed 9-25-06; 8:45 am]

BILLING CODE 3510-07-P